FEDERAL COMMUNICATIONS COMMISSION

[Report No. 2635]

Petitions for Reconsideration and Clarification of Action in Rulemaking Proceedings

October 9, 2003.

Petitions for Reconsideration and Clarification have been filed in the Commission's Rulemaking proceedings listed in this Public Notice and published pursuant to 47 CFR section 1.429(e). The full text of this document is available for viewing and copying in Room CY-A257, 445 12th Street, SW., Washington, DC or may be purchased from the Commission's copy contractor, Qualex International (202) 863-2893. Oppositions to these petitions must be filed by November 6, 2003. See Section 1.4(b)(1) of the Commission's rules (47 CFR 1.4(b)(1)). Replies to an opposition must be filed within 10 days after the time for filing oppositions have expired.

Subject:

Amendment of the Commission's Space Station Licensing Rules and Polices (IB Docket No. 02-34).

Mitigation of Orbital Debris (IB Docket 02-248).

Number of Petitions Filed: 7.

Subject:

Review of the Section 251 Unbundling Obligations of Incumbent Local Exchange Carries (CC Docket No. 01-338).

Implementation of the Local Competition Provision of the Telecommunications Act of 1996 (CC Docket No. 96-98).

Deployment of Wireless Services Offering Advanced Telecommunications Capability (CC Docket No. 98-147).

Number of Petitions Filed: 9.

Marlene H. Dortch,
Secretary.

[FR Doc. 03-26619 Filed 10-21-03; 8:45 am]

BILLING CODE 6712-01-M